DEPARTMENT OF DEFENSE

National Reconnaissance Office; Privacy Act of 1974; System of Records

AGENCY: National Reconnaissance Office, DOD.

ACTION: Notice to add a system of records.

SUMMARY: The National Reconnaissance Office is adding a system of records notice to its inventory of record systems subject to the Privacy Act of 1974, (5 U.S.C. 552a), as amended.

DATES: This proposed action will be effective without further notice on February 7, 2001, unless comments are received which result in a contrary determination.

ADDRESSES: National Reconnaissance Office, 14675 Lee Road Chantilly, VA 20151-1715.

FOR FURTHER INFORMATION CONTACT: Ms. Barbara Freimann at (703) 808-5029.

SUPPLEMENTARY INFORMATION: The National Reconnaissance Office systems of records notices subject to the Privacy Act of 1974, (5 U.S.C. 552a), as amended, have been published in the Federal Register and are available from the address above.

The proposed system report, as required by 5 U.S.C. 552a(r) of the Privacy Act of 1974, as amended, was submitted on December 20, 2000, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: December 21, 2000.
Patricia L. Toppings,
Alternate OSD Federal Register Liaison Officer, Department of Defense.

NRO-23

System name:

Counterintelligence Issue Files.

System location:

Office of Counterintelligence, National Reconnaissance Office, 14675 Lee Road, Chantilly, VA 20151-1715.

Categories of individuals covered by the system:

National Reconnaissance Office civilian, military, and contractor personnel who have had foreign travel contacts, incidents, or concerns, and any persons relating to a counterintelligence concern, incident or inquiry, as well as the points of contact.

Categories of records in the system:

Name, Social Security Number, organization, company, date and place of birth, country, action officer, date received, point of contact, and status of the case including investigatory materials and files.

Authority for maintenance of the system:

5 U.S.C. 301, Departmental Regulations; 10 U.S.C. 424; National Security Act of 1947, as amended, 50 U.S.C. 401 et seq.; E.O. 12333; E.O. 12958; E.O. 12968; and E.O. 9397 (SSN).

Purpose(s):

Information is used to assign, categorize and administratively track foreign travel, contacts, and incidents or concerns; monitor, analyze, and track counterintelligence activities; and prepare and pursue investigations involving counterintelligence activities.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routines Uses’ published at the beginning of the NRO compilation of systems of records notices apply to this system.

Policies and practices for storing, retrieving, accessing, retaining, and disposing of records in the system:

Storage:

Paper files and on automated information systems.

Retrievability:

Name, Social Security Number, organization, company, country, date received, action officer, point of contact and case status.

Safeguards:

Records are stored in a secure, gated facility, guard, badge, and password access protected. Access to and use of these records are limited to the Counterintelligence staff whose official duties require such access. Electronic data is stored on a networked (Local Area Network) PC, password restricted to the use of the Counterintelligence Staff.

Retention and disposal:

Records are permanent.

System manager(s) and address:

Director, Office of Counterintelligence, National Reconnaissance Office, 14675 Lee Road, Chantilly, VA 20151-1715.

Notification procedure:

Individuals seeking to determine whether this system of records contains information about themselves should address written inquiries to the National Reconnaissance Office, Information Access and Release Center, 14675 Lee Road, Chantilly, VA 20151-1715.

Request should include the individual's full name and any aliases or nicknames, address, Social Security Number, current citizenship status, date and place of birth.

In addition, the requester must provide a notarized statement or an unsworn declaration made in accordance with 28 U.S.C. 1746, in the following format:

If executed without the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Record access procedures:

Individuals seeking to access information about themselves contained in this system should address written inquiries to the National Reconnaissance Office, Information Access and Release Center, 14675 Lee Road, Chantilly, VA 20151-1715.

Request should include the individual's full name, and any aliases or nicknames, address, Social Security Number, current citizenship status, date and place of birth.

In addition, the requester must provide a notarized statement or an unsworn declaration made in accordance with 28 U.S.C. 1746, in the following format:

If executed without the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Contesting record procedures:

The NRO rules for accessing records, for contesting contents and appealing initial agency determinations are published in NRO Directive 110-3 and NRO Instruction 110-5; 32 CFR part 326; or may be obtained from the Privacy Act Coordinator, National Reconnaissance Office, 14675 Lee Road, Chantilly, VA 20151-1715.

Record source categories:

Information is supplied by the individual, by parties other than the individual, and by government agencies.

Exemptions claimed for the system:

Investigatory material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

Investigatory material compiled solely for the purpose of determining suitability, eligibility, or qualifications for federal civilian employment, military service, federal contracts, or access to classified information may be exempt pursuant to 5 U.S.C. 552a(k)(5), but only to the extent that such material would reveal the identity of a confidential source.

An exemption rule for this exemption has been promulgated in accordance with requirements of 5 U.S.C. 553(b)(1), (2), and (3), (c) and (e) and published in 32 CFR part 505. For additional information contact the system manager.

[FR Doc. 01-415 Filed 1-5-01; 8:45 am]

BILLING CODE 5001-10-U